DEPARTMENT OF COMMERCE

International Trade Administration

Mission Statement; Secretarial Business Development Mission to Vietnam, November 2007

AGENCY: Department of Commerce, ITA.

ACTION: Notice.

Mission Description

Secretary of Commerce Carlos M. Gutierrez will lead a senior-level U.S. business delegation to Hanoi and Ho Chi Minh City, Vietnam, from November 4-8, 2007, to promote U.S. exports to Vietnam's leading industry sectors. The mission will focus on assisting U.S. companies doing business with Vietnam increase their current level of exports as well as helping U.S. companies that are experienced exporters enter the Vietnamese market for the first time. The mission will help participating firms gain market information, make business and government contacts, solidify business strategies, and advance specific projects, towards the goal of helping U.S. firms expand their exports to Vietnam. The mission will include business-to-business matchmaking appointments with local companies, as well as meetings with key government officials, and American and local chambers of commerce. The mission will additionally provide a platform for policy and commercial issues—including transparency, rule of law, trading/distribution rights and intellectual-property rights protection—that U.S. companies face in the Vietnamese market. The delegation will be comprised of U.S. firms representing a cross section of U.S. industries with commercial interests in Vietnam.

Senior representatives of the U.S. Trade Development Agency (USTDA), the Export-Import Bank of the United States (Ex-Im), and the Overseas Private Investment Corporation (OPIC) will be invited to participate (as appropriate), to provide information and counseling on their programs as they relate to the Vietnamese market.

Commercial Setting

With a GDP of $61 billion and a young population of 84 million, Vietnam is one of the fastest growing economies in Asia (8.2% in 2006) and the newest member of the World Trade Organization (WTO) (January 11, 2007). Since the signing of the U.S.-Vietnam Bilateral Trade Agreement in 2001, two-way trade has increased from about $1.5 billion (2001) to $9.7 billion (2006). Total U.S. merchandise exports to Vietnam in 2006 were $1.1 billion. Year-to-date (through May 2007) U.S. exports have grown 65.1% over last year.

Industrial production continues to grow at 14-15% per annum, as the country follows an increasingly sophisticated foreign investment- and export-led growth strategy in such industries as agriculture and aquaculture, furniture, textiles and now consumer electronics. Over the past five years, multilateral development banks have expanded loan portfolios to fund aggressive infrastructure (transportation, energy, telecommunications) growth and will continue to do so into the foreseeable future. New WTO market-opening commitments will continue to be phased in through 2015, making it easier for U.S. companies to open businesses and sell and distribute products in most major sectors. The telecommunications, power production, and oil and gas equipment markets are well above $2.0 billion each and growing significantly each year. IT infrastructure, financial services, environmental products, aviation and airport equipment, security, mining, medical devices and franchising present further lucrative selling opportunities for U.S. exporters. Also, industrial inputs ranging from raw materials to sophisticated manufacturing technology are needed to fuel the Vietnam Government's export-led growth strategy. Rising incomes in Ho Chi Minh City and Hanoi, which tend to be four times the national average, are opening visible new selling opportunities for consumer goods producers and service-sector providers.

The Vietnam Government has successfully privatized a few small State-Owned Enterprises (SOEs), and will continue to do so. However, in the major economic sectors, such as energy, banking, telecommunications, oil and gas, and shipping the Vietnam Government will “equitize” (offer shares of large state corporations to investors while maintaining a majority stake) SOEs over the next five to ten years. While challenges remain for U.S. companies doing business in Vietnam, evolving and improving regulatory and commercial law regimes are beginning to address business corruption, weak intellectual property rights enforcement and a lack of transparency and consistency. The mission is designed to assist U.S. companies to identify and capture these opportunities and address such challenges.

Mission Goals: The Business Development Mission to Vietnam will assist U.S. businesses to initiate or expand their exports to Vietnam's leading industry sectors by making business-to-business introductions, providing market access information, and providing access to government decision makers. The Mission aims to:

• Assist U.S. companies already doing business with Vietnam to increase their business there;

• Assist U.S. companies that are experienced exporters to enter Vietnam for the first time;

• Address obstacles to trade with Vietnam, including transparency, rule of law, trading/distribution rights and intellectual property rights protection;

• Provide information on U.S. Government trade financing programs, through the inclusion of representatives from USTDA, Ex-Im, and OPIC (as appropriate).

Mission Scenario: The Business Development Mission to Vietnam will include stops in Hanoi and Ho Chi Minh City. In each city, participants will:

• Meet with high-level government officials;

• Meet with potential buyers, agents/distributors and partners; and

• Attend briefings conducted by Embassy officials on the economic and commercial climates.

Receptions and other business events will be organized to provide mission participants with further opportunities to speak with local business and government representatives, as well as U.S. business executives living and working in the region.

Mission Timetable
November 4, 2007, Sunday | Mission Begins (Late Afternoon/Evening) Commercial Briefing by Government Officials Welcome Event.
November 5, 2007, Monday | Official Meetings Business Delegation Matchmaking AmCham Event Reception hosted by Ambassador.
November 6, 2007, Tuesday | Official Meetings Business Delegation Matchmaking Travel to Ho Chi Minh City Reception hosted by Consul General.
November 7, 2007, Wednesday | Official Meetings Business Delegation Matchmaking.
November 8, 2007, Thursday | Business Delegation Matchmaking Mission Concludes.

Criteria for Participation and Selection: All parties interested in participating in the Vietnam Business Development Mission must complete and submit an application package for consideration by the Department of Commerce. All applicants will be evaluated on their ability to meet certain conditions and best satisfy the selection criteria as outlined below. Between 20 and 30 companies will be selected to participate in the mission from the applicant pool.

Fees and Expenses: After a company has been selected to participate on the mission, a payment to the Department of Commerce in the form of a participation fee is required. The participation fee will be $7,000.00 per firm, which includes one principal representative. The fee for each additional firm representative is $2,100.00. Expenses for travel, lodging, and incidentals will be the responsibility of each mission participant.

Selection Criteria: An applicant must submit a completed and signed mission application and supplemental application materials, including adequate information on the company's: Products and/or services, primary market objectives, and goals for participation. If we receive an incomplete application, we may either reject the application or take the lack of information into account when we evaluate the applications.

• Each applicant must also:

—Certify that the products and services it seeks to export through the mission are either produced in the United States, or, if not, marketed under the name of a U.S. firm and have at least fifty-one percent U.S. content;

—Certify that the export of the products and services that it wishes to export through the mission would be in compliance with U.S. export controls and regulations;

—Certify that it has identified to the Department of Commerce for its evaluation any business pending before the Department of Commerce that may present the appearance of a conflict of interest;

—Certify that it has identified any pending litigation (including any administrative proceedings) to which it is a party that involves the Department of Commerce; and

—Sign and submit an agreement that it and its affiliates (1) Have not and will not engage in the bribery of foreign officials in connection with company's/participant's involvement in this mission, and (2) maintain and enforce a policy that prohibits the bribery of foreign officials.

Selection will be based on the following criteria in decreasing order of importance.

• Demonstrated export experience in Vietnam and/or globally;

• Suitability of a company's products or services to the Vietnamese market and likelihood of a participating company's increasing exports to Vietnam within a year as a result of this mission; and

• Rank/seniority of the designated company representative.

Additional factors, such as diversity of company size, type, location, demographics, and traditional under-representation in business, may also be considered during the review process.

Referrals from political organizations and any documents, including the application, containing references to partisan political activities (including political contributions) will be removed from an applicant's submission and not considered during the selection process.

Timeframe for Recruitment and Applications: Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The Office of Business Liaison and the International Trade Administration will explore and welcome outreach assistance from other interested organizations, including other U.S. Government agencies. Applications for the Mission will be made available July 30, 2007 through September 12, 2007. Applications can be completed on-line on the Vietnam Business Development Mission Web site at http://www.export.gov/vietnammission or can be obtained by contacting the U.S. Department of Commerce Office of Business Liaison (202-482-1360 or vietnammission@doc.gov).

The application deadline is September 12, 2007. Completed applications should be submitted to the Office of Business Liaison. Applications received after September 12, 2007 will be considered only if space and scheduling constraints permit.

Contact Information: Pat Kirwan, Trade Promotion Coordinating Committee. U.S. Department of Commerce, Washington, DC 20230, Tel: (202) 482-1360, E-mail: vietnammission@doc.gov.

Pat Kirwan,
Trade Promotion Coordinating Committee.

[FR Doc. E7-15576 Filed 8-8-07; 8:45 am]

BILLING CODE 3510-DS-P